DEPARTMENT OF JUSTICE

Notice of Lodging of Consent Decree Under the Clean Air Act

Notice is hereby given that on March 6, 2012, a proposed Consent Decree in United States v. Spectro Alloys Corporation, Civil Action No. 0:12-CV-00594, was lodged with the United States District Court for the District of Minnesota.

The Consent Decree would resolve claims for injunctive relief and the assessment of civil penalties asserted by the United States against Spectro Alloys Corporation pursuant to Section 113(b) of the Clean Air Act, 42 U.S.C. 7413(b).

Defendant processes aluminum scrap and dross to produce various secondary aluminum products, a process that results in emissions of regulated air pollutants, including dioxins and furans, hydrogen chloride, particulate matter, and hydrocarbons. The United States' complaint, filed concurrently with the Consent Decree, alleges that Defendant violated Section 112 of the Clean Air Act, 42 U.S.C. 7412; the National Emission Standards for Hazardous Air Pollutants (“NESHAP”) for Secondary Aluminum Production, codified at 40 CFR Part 63, Subparts A and RRR; and related provisions of Minnesota law at its aluminum production facility in Rosemount, Minnesota. Specifically, the complaint alleges that Defendant failed to comply with applicable emission standards; to design, install, and inspect adequate capture and collection systems; and to correctly monitor and comply with applicable operating parameters.

The Consent Decree would require Defendant to install two fabric filters to capture and treat facility emissions; to conduct new emission performance tests and tests of the facility capture and collection system; to submit revised operation, maintenance and monitoring plan documents; and to apply for a new operating permit at its facility. The Consent Decree would also provide for a $600,000 civil penalty.

The Department of Justice will receive for a period of thirty (30) days from the date of this publication comment relating to the Consent Decree. Comments should be addressed to the Assistant Attorney General, Environment and Natural Resources Division, and either emailed to pubcomment-ees.enrd@usdoj.gov or mailed to P.O. Box 7611, U.S. Department of Justice, Washington, DC 20044-7611, and should refer to United States v. Spectro Alloys Corporation, No. 0:12-CV-00594 (D. Minn.), D.J. Ref. No. 90-5-2-1-09268/1.

During the public comment period, the Consent Decree may be examined on the following Department of Justice Web site: http://www.usdoj.gov/enrd/Consent_Decrees.html. A copy of the Consent Decree may also be obtained by mail from the Consent Decree Library, P.O. Box 7611, U.S. Department of Justice, Washington, DC 20044-7611 or by faxing or emailing a request to Environment and Natural Resources Division, Environmental Enforcement Section, fax no. (202) 514-0097, phone confirmation number (202) 514-1547, email EESCDCopy.ENRD@usdoj.gov. In requesting a copy from the Consent Decree Library, please enclose a check in the amount of $14.50 for a copy of the complete Consent Decree (25 cents per page reproduction cost), payable to the U.S. Treasury or, if by email or fax, forward a check in that amount to the Consent Decree Library at the stated address.

Maureen Katz,
Assistant Section Chief, Environmental Enforcement Section, Environment and Natural Resources Division.

[FR Doc. 2012-5990 Filed 3-12-12; 8:45 am]

BILLING CODE 4410-15-P